DEPARTMENT OF EDUCATION

National Assessment Governing Board; Meeting

AGENCY: National Assessment Governing Board, Education.

ACTION: Notice of open meeting.

SUMMARY: This notice sets forth the schedule and proposed agenda of a forthcoming meeting of the National Assessment Governing Board. This notice also describes the functions of the Board. Notice of this meeting is required under section 10 (a) (2) of the Federal Advisory Committee Act. This document is intended to notify the general public of their opportunity to attend. Individuals who will need accommodations for a disability in order to attend the meeting (i.e. interpreting services, assistive listening devices, materials in alternative format) should notify Munira Mwalimu at 202-357-6938 or at Munira.Mwalimu@ed.gov no later than November 9, 2001. We will attempt to meet requests after this date, but cannot guarantee availability of the requested accommodation. The meeting site is accessible to individuals with disabilities.

DATES: November 16-17, 2001.

Time: November 16—Full Board 8:30 a.m.-10:00 a.m.; Assessment Development Committee 10:00 a.m.-12:15 p.m.; Committee on Standards, Design and Methodology, 10:00 a.m.-12:15 p.m.; Reporting and Dissemination Committee, 10:00 a.m.-12:15p.m.; Full Board, 12:30 p.m.-5:00 p.m.; November 17—Full Board 8:30 a.m.-12:00 p.m.

Location: The Westin Fairfax, 2100 Massachusetts Avenue NW., Washington, DC 20008.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994 (Title IV of the Improving America's Schools Act of 1994) (Pub. L. 103-382).

The Board is established to formulate policy guidelines for the National Assessment of Educational Progress (NAEP). The Board is responsible for selecting subject areas to be assessed, developing assessment objectives, identifying appropriate achievement goals for each grade and subject tested, and establishing standards and procedures for interstate and national comparisons.

On November 16, 2001 the full Board will convene in open session from 8:30 a.m.-10:00 a.m. The Board will approve the agenda; hear a report from the Executive Director of the National Assessment Governing Board; receive updates on the NAEP Program and on reauthorization; and on the “No Child Left Behind” initiative. From 10:00 a.m. to 12:15 p.m., the Board's standing committees will meet in open session.

The Assessment Development Committee (ADC) will meet in open session on Friday, November 16, 2001 from 10:00 a.m.-12:15 p.m. The Committee will review final recommendations on the Mathematics Framework and Specifications for the 2004 NAEP Math Assessment; review the draft NAEP Reading Framework; and receive a briefing on the Economics Framework and Specifications project for the NAEP 2005 Economics Assessment.

The Committee on Standards, Design, and Methodology will meet on Friday, November 16, 2001 from 10 a.m.-12:15 p.m. to discuss technical issues in potential changes to Long Term Trend Assessments; receive a summary analyses of combined state and national NAEP data; discuss proposed statistical standards for inference and comparisons; receive a summary analyses of the grade 12 score decline in NAEP; and receive a status report on the 2001 geography achievement level anchoring study.

The Reporting and Dissemination Committee will meet on Friday, November 16, 2001 from 10 a.m.-12:15 p.m. to discuss the NAEP 2000 Science Release; the schedule for release of future NAEP reports; and annual reporting of reading and mathematics.

The Committee will receive an update on racial/ethnic categories in NAEP data collection and reporting, and discuss the Board's role in the review of background questions and criteria for review. The Committee will review background questions for the NAEP 2002 reading and writing assessments; the NAEP 2002 field test; and the long term trend assessments.

The full Board will reconvene on November 16, 2001 from 12:30 p.m.-5 p.m. to discuss measuring achievement gaps, to receive an update and discuss the NAEP 2002 Reading Revisit; hear a status report from the Ad Hoc Committee on Confirming State Results; hear recommendations and discuss the NAEP 2004 Mathematics Framework; and receive ethics training upon which the November 16, 2001 session of the Board meeting will adjourn.

On November 17, 2001, the Board will meet from 8:30 a.m. to 9:30 a.m. to receive a demonstration of the Interactive NAEP Data Tool. The Board will then hear and take action on Committee reports from 9:30 a.m. to 12 p.m., whereupon the meeting will adjourn.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC, from 8:30 a.m. to 5 p.m. Eastern Standard Time.

Dated: November 1, 2001.
Roy Truby,
Executive Director, National Assessment Governing Board.

[FR Doc. 01-27786 Filed 11-5-01; 8:45 am]

BILLING CODE 4000-01-M